DEPARTMENT OF HOUSING AND URBAN DEVELOPMENT

[Docket No. FR-5602-N-05]

Notice of Proposed Information Collection: Comment Request Notice of Application for Designation as a Single Family Foreclosure Commissioner

AGENCY: Office of the General Counsel, HUD.

ACTION: Notice.

SUMMARY: The proposed information collection requirement described below will be submitted to the Office of Management and Budget (OMB) for review, as required by the Paperwork Reduction Act. The Department is soliciting public comments on the subject proposal.

DATES: Comments Due Date: September 17, 2012.

ADDRESSES: Interested persons are invited to submit comments regarding this proposal. Comments should refer to the proposal by name and/or OMB Control Number and should be sent to: Reports Liaison Officer, Office of General Counsel, Department of Housing and Urban Development, 451 7th Street SW., Room 10276, Washington, DC 20410-0500.

FOR FURTHER INFORMATION CONTACT: Sherece Tolbert, Deputy Assistant General Counsel, Single Family Mortgage Division, Office of General Counsel, Department of Housing and Urban Development, 451 7th Street SW., Room 9240, Washington, DC 20410-0500, telephone (202-708-0080) (this is not a toll-free number).

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Notice of Application for Designatin As a Single Family Foreclosure Commissioner (SF Mortgage Foreclosure Act of 1994).

OMB Control Number, if applicable: 2510-0012.

Description of the need for the information and proposed use: Under the Single Family Mortgage Foreclsoure Act of 1994, HUD may exercise a nonjudicial Power of Sale of single family HUD-held mortgages and may appoint Foreclsoure Commissioners to do this. HUD needs the Notice and resulting appliations for compliance with the Act's requirements that commissioners be qualified. Most respondents will be attorneys, but anyone may apply.

Agency form numbers, if applicable: None.

Members of affected public: Business or Other For-Profit and Individuals or Households.

Estimation of the total numbers of hours needed to prepare the information collection including number of respondents, frequency of response, and hours of response:

Number of respondents | Frequency of response | Hours per response | Total burden hours
30 | 1 | .5 | 15

Status of the proposed information collection: Reinstatement of collection.

Authority: The Paperwork Reduction Act of 1995, 44 U.S.C. Chapter 35, as amended.

Dated: July 16, 2012.
Camille E. Acevedo,
Associate General Counsel for Legislation and Regulations.

[FR Doc. 2012-17637 Filed 7-18-12; 8:45 am]

BILLING CODE 4210-67-P